DEPARTMENT OF AGRICULTURE

Grain Inspection, Packers and Stockyards Administration

Opportunity To Comment on the Applicants for the Unassigned Areas of East Texas

AGENCY: Grain Inspection, Packers and Stockyards Administration, USDA.

ACTION: Notice and request for comments.

SUMMARY: GIPSA requests comments on the applicants for designation to provide official services in the unassigned areas of east Texas.

• Central Illinois Grain Inspection d/b/a Lone Star Grain Inspection (Central Illinois).

• Gulf Country Inspection Service, Inc. (Gulf Country).

DATE: Comments must be postmarked or electronically dated on or before December 31, 2008.

ADDRESSES: We invite you to submit comments on these applicants by any of the following methods:

• Hand Delivery or Courier: Karen Guagliardo, Review Branch Chief, Compliance Division, GIPSA, USDA, Room 1647-S, 1400 Independence Avenue, SW., Washington, DC 20250.

• Fax: (202) 690-2755 to the attention of Karen Guagliardo.

• E-mail: Karen.W.Guagliardo@usda.gov.

• Mail: Karen Guagliardo, Review Branch Chief, Compliance Division, GIPSA, USDA, STOP 3604, 1400 Independence Avenue, SW., Washington, DC 20250-3604.

• Internet: Go to http://www.regulations.gov. Follow the online instructions for submitting comments and reading any comments posted online.

Read Applications and Comments: All applications and comments will be available for public inspection at the office above during regular business hours (7 CFR 1.27(b)).

FOR FURTHER INFORMATION CONTACT: Karen Guagliardo at 202-720-7312, e-mail Karen.W.Guagliardo@usda.gov.

SUPPLEMENTARY INFORMATION: This action has been reviewed and determined not to be a rule or regulation as defined in Executive Order 12866 and Departmental Regulation 1512-1. Therefore, the Executive Order and Departmental Regulation do not apply to this action.

In the September 29, 2008, Federal Register (73 FR 56546), GIPSA asked persons interested in providing official services in the unassigned areas of east Texas to submit applications for designation.

There were two applicants for the east Texas area: Central Illinois, doing business as Lone Star Grain Inspection, applied for the entire area. Gulf Country, a corporation not currently designated and owned by Tyrone Robichaux, Richard Maynard, Pat LaCour, and Dan Williams, applied for the entire area.

GIPSA is publishing this notice to provide interested persons the opportunity to present comments concerning the applicants. Commenters are encouraged to submit reasons and pertinent data in support of or objection to the designation of the applicants. All comments must be submitted to the Compliance Division at the above address or at http://www.regulations.gov. Comments and other available information will be considered in making a final decision. GIPSA will publish notice of the final decision in the Federal Register, and will notify the applicants in writing of the decision.

Authority: 7 U.S.C. 71-87k.

Alan Christian,
Acting Administrator, Grain Inspection, Packers and Stockyards Administration.

[FR Doc. E8-28247 Filed 11-28-08; 8:45 am]

BILLING CODE 3410-KD-P